DEPARTMENT OF AGRICULTURE

Forest Service

Olympic Peninsula Resource Advisory Committee & Olympic Province Advisory Committee

AGENCY: Forest Service, USDA.

ACTION: Notice of meeting (field trip).

SUMMARY: The Olympic Peninsula Resource Advisory Committee and the Olympic Province Advisory Committee will meet for a combined field trip meeting on Friday, September 22, 2006. The meeting will start at the Lake Quinault Lodge, 345 South Shore Road, Quinault, WA 98575. The meeting will begin at 9 a.m. and end in the field at approximately 3:30 p.m. Agenda topics are: Update on Secure Rural Schools Legislation; discuss future meeting agenda topics and set dates calendar dates for the meetings; field review 2 projects that are currently in process; field review 4 completed projects; and public comments.

All Olympic Peninsula Resource Advisory Committee & Olympic Province Advisory Committee Meetings are open to the public. Interested citizens are encouraged to attend.

FOR FURTHER INFORMATION CONTACT: Karl Denison, Olympic Province Committee & Olympic Resource Advisory Committee Liaison, USDA, Olympic National Forest Headquarters, 1835 Black Lake Blvd., Olympia, WA 98512-5623, (360) 956-2306.

Dated: September 6, 2006.
Dale Hom,
Forest Supervisor, Olympic National Forest.

[FR Doc. 06-7655 Filed 9-13-06; 8:45am]

BILLING CODE 3410-11-M